DEPARTMENT OF HOUSING AND URBAN DEVELOPMENT

[Docket No. FR-4950-FA-07]

Announcement of Funding Awards for Fiscal Year 2005; Early Doctoral Student Research Grant Program

AGENCY: Office of the Assistant Secretary for Policy Development and Research, HUD.

ACTION: Announcement of funding awards.

SUMMARY: In accordance with section 102(a)(4)(C) of the Department of Housing and Urban Development Reform Act of 1989, this document notifies the public of funding awards for the Fiscal Year 2005 Early Doctoral Student Research Grant (EDSRG) Program. The purpose of this document is to announce the names and addresses of the award winners and the amount of the awards to be used to help doctoral students cultivate their research skills through the preparation of research manuscripts that focus on housing and urban development issues.

FOR FURTHER INFORMATION CONTACT: Susan Brunson, Office of University Partnerships, Department of Housing and Urban Development, 451 Seventh Street, SW., Room 8106, Washington, DC 20410, telephone (202) 708-3061, ext. 3852. To provide service for persons who are hearing-or speech-impaired, this number may be reached via TTY by Dialing the Federal Information Relay Service on (800) 877-8339 or (202) 708-1455. (Telephone numbers, other than “800” TTY numbers, are not toll free).

SUPPLEMENTARY INFORMATION: The EDSRG Program provides funds to eligible doctoral students to cultivate their research skills through preparation of research manuscripts that focus on housing and urban development issues. Students, who are in the early stages of their doctoral studies, have 12 months to complete a major research study. The maximum amount to be awarded to doctoral student is $15,000.

The Office of University Partnerships under the Assistant Secretary for Policy Development and Research (PD&R) administers this program. This Office also administers PD&R's other grant programs for academics.

The Catalog of Federal Domestic Assistance number for this program is 14.517.

May 21, 2005, (70 FR 13763), HUD published a Notice of Funding Availability (NOFA) announcing the availability of $150,000 in FY 2005 funds for the EDSRG Program. The Department reviewed, evaluated and scored the applications received based on the criteria in the NOFA. As a result, HUD has funded the applications announced below and, in accordance with section 102(a)(4)(C) of the Department of Housing and Urban Development Reform Act of 1989 (103 Stat. 1987, U.S.C. 3545), the Department is publishing details concerning the recipients of funding awards as follows (More information about the winners can be found at http://www.oup.org):

List of Awardees for Grant Assistance Under the FY 2005 Early Doctoral Student Research Grant Program Funding Competition, by Institution, Address, Grant Amount and Name of Student Funded

1. University of Southern California, Dr. Dowell Myers, University Park Campus, School of Policy, Planning & Development, Los Angeles, CA 90007. Grant: $15,000 to Cathy Yang Liu.

2. The Regents of the University of Minnesota, Ms. Marilyn Bruin, The Regents of the University of Minnesota, Office of Sponsored Projects, College of Human Ecology, 200 Oak Street, SE., Suite 450, Minneapolis, MN 55455. Grant: $15,000 to Kim Skobba.

3. Rutgers, The State University of New Jersey, Ms. Simona Turcu, Rutgers, The State University of New Jersey, Office of Research and Sponsored Programs, Edward J. Bloustein School, 3 Rutgers Plaza, New Brunswick, NJ 08901. Grant: $15,000 to Corianne Scally.

4. The Regents of the University of California, Ms. Eileen Lamb, The Regents of the University of California, Office of Research Administration, School of Social Ecology, 300 University Tower, Irvine, CA 92697. Grant: $15,000 to Lyndsay Boggess.

5. University of Southern California, Mr. Stuart Gabriel, University of Southern California, University Park Campus, School of Policy, Planning & Development, Los Angeles, CA 90089. Grant: $15,000 to Abhishek Mamgain.

6. Case Western Reserve University, Mr. Richard Cole, Case Western Reserve University, MSASS, 10900 Euclid Avenue, Cleveland, OH 44106. Grant: $15,000 to Leslie Strnisha.

7. Syracuse University, Mr. Edward Kiewra, Syracuse University, Center for Policy Research, Office of Sponsored Programs, 113 Bowne Hall, Syracuse, NY 13244. Grant: $15,000 to Michael Eriksen.

8. President and Fellows of Harvard College, Ms. Laura Tach, President and Fellows of Harvard College, John F. Kennedy School of Government, Office for Sponsored Programs, 1350 Massachusetts Avenue, Suite 600, Cambridge, MA 02138. Grant: $8,455 to Laura Tach.

9. The University of Akron, Ms. Lynn Clark, The University of Akron, Department of Sociology, 302 Buchtel Common, Akron, OH 44325. Grant: $15,000 to Lynn Clark.

10. Virginia Polytechnic Institute & State University, Ms. Elaine Broadstone, Virginia Polytechnic Institute & State University, Office of Sponsored Programs, 460 Turner Street, Suite 306, Blacksburg, VA 24060. Grant: $15,000 to Kimberly Mitchell.

Dated: May 26, 2006.
Darlene F. Williams,
Assistant Secretary.

[FR Doc. E6-8531 Filed 6-1-06; 8:45 am]

BILLING CODE 4210-67-P